DEPARTMENT OF TRANSPORTATION

Surface Transportation Board

[STB Finance Docket No. 34962]

Youngstown & Southeastern Railway Company—Lease and Operation Exemption—Lines of Eastern States Railroad, LLC

Youngstown & Southeastern Railway Company (Y&S), a noncarrier, has filed a verified notice of exemption under 49 CFR 1150.31 to sublease from Eastern States Railroad, LLC (ESR) and operate the portion of the 35.7-mile line between milepost 35.7 in Darlington, PA, and milepost 0.0 in Youngstown, OH. In addition, Y&S will operate, as ESR's agent and in ESR's name, 3 miles of rail line running east of Youngstown, which is the subject of permanent assignment to ESR of Central Columbiana & Pennsylvania Railway, Inc.'s (CCPR) and Columbiana County Port Authority's (CCPA) operating rights that will facilitate the interchange of traffic with Norfolk Southern Railway Company and CSX Transportation, Inc.

This transaction is related to two concurrently filed verified notices of exemption: STB Finance Docket No. 34934, Eastern States Railroad, LLC—Acquisition Exemption—Central Columbiana & Pennsylvania Railway, Inc., and Columbiana County Port Authority, wherein ESR seeks to acquire the lease and operating rights of approximately 35.7 miles of rail line owned by CCPA, and to receive permanent assignment of CCPR's and CCPA's operating rights to approximately 3 miles of track east of milepost 0.0; and STB Finance Docket No. 34961, Indiana Boxcar Corporation—Continuance in Control Exemption—Youngstown & Southeastern Railway Company, wherein Indiana Boxcar Corporation seeks to continue in control of Y&S upon Y&S's becoming a Class III carrier.

Y&S certifies that its projected annual revenue as a result of this transaction will not exceed $5 million. The transaction was scheduled to be consummated on or after November 29, 2006, the effective date of the exemption (7 days after the exemption was filed).

If the notice contains false or misleading information, the exemption is void ab initio. Petitions to revoke the exemption under 49 U.S.C. 10502(d) may be filed at any time. The filing of a petition to revoke does not automatically stay the transaction.

An original and 10 copies of all pleadings, referring to STB Finance Docket No. 34962, must be filed with the Surface Transportation Board, 1925 K Street, NW., Washington, DC 20423-0001. In addition, a copy of each pleading must be served on John D. Heffner, John D. Heffner, PLLC, 1920 N Street, NW., Suite 800, Washington, DC 20036.

Board decisions and notices are available on its Web site at http://www.stb.dot.gov.

Decided: December 14, 2006.
By the Board, David M. Konschnik, Director, Office of Proceedings.
Vernon A. Williams,
Secretary.

[FR Doc. E6-21761 Filed 12-20-06; 8:45 am]

BILLING CODE 4915-01-P